DEPARTMENT OF COMMERCE

International Trade Administration

Withdrawal of Application for Duty-Free Entry of Scientific Instruments

Pursuant to Section 6(c) of the Educational, Scientific and Cultural Materials Importation Act of 1966 (Pub. L. 89-651; as amended by Pub. L. 106-36; 80 Stat. 897; 15 CFR part 301), the Department of Commerce determines whether instruments of equivalent scientific value, for the purposes for which the instruments shown below are intended to be used, are being manufactured in the United States.

Applications may be examined between 8:30 A.M. and 5:00 P.M. in Room 2104, Statutory Import Programs Staff, U.S. Department of Commerce 14th and Constitution Ave., NW, Room 2104 Washington, D.C. 20230.

Docket Number: 08-046. Applicant: Rice University, 6100 Main Street MS-61, Houston, TX 77005. Instrument: Gemstar camera with photon counting sensitivity. Manufacturer: Photonic Science, United Kingdom. Intended Use: The instrument is intended to be used to record x-ray diffraction from lipidic structures. Application accepted by Commissioner of Customs and Border Protection: August 22, 2008.

The Department of Commerce received the Rice University application from Customs and Border Protection on September 2, 2008. The application was reviewed and the Department determined that the application did not have sufficient information for the Department to determine whether an equivalent instrument was being produced in the United States. In accordance with section 301.5(a)(2), the Department contacted the University to afford them an opportunity to supplement the application by providing further information regarding the purpose of the instrument and whether an equivalent instrument was being produced in the United States.

Rice University then informed the Department that they had discovered price was the determining factor in selecting the instrument. The University decided to withdraw the application for the x-ray Gemstar Camera with Photon counting sensitivity since they had been made aware that price could not be considered a pertinent specification in the comparison of instruments, in accordance with section 301.2(s).

.

Therefore, the Department of Commerce had discontinued the processing of this application, in accordance with section 301.5(g) of the regulations. See 15 CFR 301.5(g).

Faye Robinson,
Director, Statutory Import Programs Staff, Import Administration.

[FR Doc. E8-25824 Filed 10-28-08; 8:45 am]

BILLING CODE 3510-DS-S